DEPARTMENT OF TRANSPORTATION

Federal Aviation Information

Agency Information Collection Activity Seeking OMB Approval

AGENCY: Federal Aviation Administration (FAA), DOT.

ACTION: Notice.

SUMMARY: The FAA invites public comments about our intention to request the Office of Management and Budget's (OMB) approval of a new information collection. The Federal Register Notice with a 60-day comment period soliciting comments on the following collection of information was published on July 3, 2007, vol. 72, no. 127, page 36542-36543. The FAA issues Special Airworthiness Information Bulletins (SAIBs to alert, educate, and make recommendations to the aviation community and individual aircraft owners and operators about ways to improve the safety of a product.

DATES: Please submit comments by November 28, 2007.

FOR FURTHER INFORMATION CONTACT: Carla Mauney at Carla.Mauney@faa.gov.

SUPPLEMENTARY INFORMATION:

Federal Aviation Administration (FAA)

Title: Reporting of Information Using Special Airworthiness Information Bulletins.

Type of Request: Approval of a new collection.

OMB Control Number: 2120-XXXX.

Form(s): There are no FAA forms associated with this collection.

Affected Public: An estimated 1,120 respondents.

Frequency: This information is collected on occasion.

Estimated Average Burden per Response: Approximately 5 minutes per response.

Estimated Annual Burden Hours: An estimated 933 hour annually.

Abstract: The FAA issues Special Airworthiness Information Bulletins (SAIBs) to alert, educate, and make recommendations to the aviation community and individual aircraft owners and operators about ways to improve the safety of a product. It contains non-regulatory information and guidance that is advisory; recommended actions or inspections; and may include a request for voluntary reporting of results from those actions/inspections. This reported information is used to help the FAA assess whether a potential unsafe condition warrants issuance of an airworthiness directive (AD).

ADDRESSES: Interested persons are invited to submit written comments on the proposed information collection to the Office of Information and Regulatory Affairs, Office of Management and Budget. Comments should be addressed to Nathan Lesser, Desk Officer, Department of Transportation/FAA, and sent via electronic mail to oira_submission@omb.eop.gov or faxed to (202) 395-6974.

Comments are invited on: Whether the proposed collection of information is necessary for the proper performance of the functions of the Department, including whether the information will have practical utility; the accuracy of the Department's estimates of the burden of the proposed information collection; ways to enhance the quality, utility, and clarity of the information to be collected; and ways to minimize the burden of the collection of information on respondents, including the use of automated collection techniques or other forms of information technology.

Issued in Washington, DC, on October 23, 2007.
Carla Mauney,
FAA Information Collection Clearance Officer, IT Enterprises Business Services Division, AES-200.

[FR Doc. 07-5362 Filed 10-26-07; 8:45 am]

BILLING CODE 4910-13-M